DEPARTMENT OF THE INTERIOR

Bureau of Land Management

[LLWY-957400-13-L19100000-BJ0000-LRCMK1G04346]

Filing of Plats of Survey, Nebraska

AGENCY: Bureau of Land Management, Interior.

ACTION: Notice.

SUMMARY: The Bureau of Land Management (BLM) is scheduled to file the plats of survey of the lands described below thirty (30) calendar days from the date of this publication in the BLM Wyoming State Office, Cheyenne, Wyoming.

FOR FURTHER INFORMATION CONTACT: Bureau of Land Management, 5353 Yellowstone Road, P.O. Box 1828, Cheyenne, Wyoming 82003.

SUPPLEMENTARY INFORMATION: These surveys were executed at the request of the Bureau of Indian Affairs and are necessary for the management of these lands. The lands surveyed are:

The plat and field notes representing the dependent resurvey of portions of the Sixth Standard Parallel North, through Range 8 East, the west and north boundaries, the subdivisional lines, and the subdivision of certain sections; and the survey of the subdivision of certain sections, of Township 25 North, Range 8 East, of the Sixth Principal Meridian, Nebraska, Group No. 175, was accepted March 26, 2013.

The plat and field notes representing the dependent resurvey of portions of the Sixth Standard Parallel North, through Range 7 East, the east boundary, the subdivisional lines, and the subdivision of section lines, and the survey of the subdivision of certain sections, Township 24 North, Range 7 East, of the Sixth Principal Meridian, Nebraska, Group No. 177, was accepted March 26, 2013.

Copies of the preceding described plat and field notes are available to the public at a cost of $1.10 per page.

Dated: March 26, 2013.
John P. Lee,
Chief Cadastral Surveyor, Division of Support Services.

[FR Doc. 2013-07506 Filed 3-29-13; 8:45 am]

BILLING CODE 4310-22-P